INTERNATIONAL TRADE COMMISSION

[USITC SE-19-011]

Government in the Sunshine Act Meeting Notice

Agency Holding the Meeting: United States International Trade Commission.

Time and Date: April 19, 2019 at 11:00 a.m.

Place: Room 101, 500 E Street SW, Washington, DC 20436, Telephone: (202) 205-2000.

Status: Open to the public.

Matters to be Considered:

1. Agendas for future meetings: None.

2. Minutes.

3. Ratification List.

4. Vote on Inv. Nos. 701-TA-620 and 731-TA-1445 (Preliminary) (Wooden Cabinets and Vanities from China). The Commission is currently scheduled to complete and file its determinations on April 22, 2019; views of the Commission are currently scheduled to be completed and filed on April 29, 2019.

5. Outstanding action jackets: None.

In accordance with Commission policy, subject matter listed above, not disposed of at the scheduled meeting, may be carried over to the agenda of the following meeting.

By order of the Commission.
Issued: April 9, 2019.
William Bishop,
Supervisory Hearings and Information Officer.

[FR Doc. 2019-07329 Filed 4-9-19; 4:15 pm]

BILLING CODE 7020-02-P